DEPARTMENT OF DEFENSE

Office of the Secretary

Renewal of the Board of Visitors of the U.S. Air Force Academy

AGENCY: DoD.

ACTION: Renewal of Federal Advisory Committee.

SUMMARY: Under the provisions of the Federal Advisory Committee Act of 1972 (5 U.S.C. Appendix), the Government in the Sunshine Act of 1976 (5 U.S.C. 552b), and 41 CFR 102-3.50(d), the Department of Defense gives notice that it is renewing the charter for the Board of Visitors of the U.S. Air Force Academy (hereafter referred to as “the Board”).

The Board is a non-discretionary federal advisory committee that shall provide independent advice and recommendations on matters relating to the U.S. Air Force Academy, to include morale, discipline, and social climate, the curriculum, instruction, physical equipment, fiscal affairs, academic methods, and other matters relating to the Academy that the Board decides to consider.

The Board shall prepare a semiannual report containing its views and recommendations pertaining to the U.S. Air Force Academy, based on its meeting since the last such report and any other considerations it determines relevant. Each such report shall be submitted concurrently to the Secretary of Defense, through the Secretary of the Air Force, and to the Committee on Armed Services of the Senate and the Committee on Armed Services of the House of Representatives.

The Board is constituted annually, and it shall be composed of not more than 15 members. Under the provisions of 10 U.S.C. 9355(a) and (b)(2), the Board members shall include:

a. Six persons designated by the President, at least two of whom shall be graduates of the U.S. Air Force Academy;

b. The chairman of the Committee on Armed Services of the House of Representatives, or his designee;

c. Four persons designated by the Speaker of the House of Representatives, three of whom shall be members of the House of Representatives and the fourth of whom may not be a member of the House of Representatives;

d. The chairman of the Committee on Armed Services of the Senate, or his designee;

e. Three other members of the Senate designated by the Vice President or the President pro tempore of the Senate, two of whom are members of the Committee on Appropriations of the Senate.

The Board members referenced in paragraph (a) above, designated by the President, shall serve for three years except that any member whose term of office has expired shall continue to serve until a successor is appointed. In addition, the President shall designate persons each year to succeed the members referenced in (a) above whose terms expire that year.

The Board members shall select the Board Chairperson and Vice Chairperson from the total membership.

If a member of the Board dies or resigns or is terminated as a member of the Board, a successor shall be designated for the unexpired portion of the term by the official who designated the member.

Each member of the Board who is a member of the Armed Forces or a civilian officer or employee of the United States shall serve without compensation (other than compensation to which entitled as a member of the Armed Forces or an officer or employee of the United States, respectively). Individuals appointed by the President shall receive no compensation for their service on the Board. While performing duties as a member of the Board, each member of the Board and each adviser shall be reimbursed under Government travel regulations for travel expenses.

If a member of the Board fails to attend two successive Board meetings, except in a case in which an absence is approved in advance for good cause by the Board chairperson, such failure shall be grounds for termination from membership on the Board, pursuant to 10 U.S.C. 9355(c)(2)(A) (“absenteeism provision”).

Termination of membership on the Board pursuant to the absenteeism provision, in the case of a member of the Board who is not a member of Congress, may be made by the Board's chairperson; and in the case of a member of the Board who is a member of Congress, may be made only by the official who designated the member. When the member of the board is subject to termination from membership on the Board under the absenteeism provision, the Board's chairperson shall notify the official who designated the member. Upon receipt of such a notification with respect to a member of the Board who is a member of Congress, the official who designated the member shall take such action, as that official considers appropriate.

Upon approval by the Secretary of the Air Force, the Board, pursuant to 10 U.S.C 9355(g), may call in advisers for consultation. These advisors shall, with the exception of travel and per diem for official travel, serve without compensation.

With DoD approval, the Board is authorized to establish subcommittees, as necessary and consistent with its mission. Establishment of subcommittees will be based upon written determination, to include terms of reference, by the Secretary of Defense, the Deputy Secretary of Defense, or the Board's sponsor.

Such subcommittees or workgroups shall not work independently of the chartered Board, and shall report all their recommendations and advice to the Board for full deliberation and discussion. Subcommittees or workgroups have no authority to make decisions on behalf of the chartered Board; nor can they report directly to the Department of Defense or any Federal officers or employees who are not Board members.

Subcommittee members shall be appointed by the Secretary Defense even if the member in question is already a Board member. Subcommittee members, with the approval of the Secretary of Defense, may serve a term of service on the subcommittee of one-to-four years; however, no member shall serve more than two consecutive terms of service on the subcommittee.

Subcommittee members, if not full-time or part-time government employees, shall be appointed by the Secretary of Defense according to governing DoD policy and procedures. Such individuals shall be appointed to serve as experts and consultants under the authority of 5 U.S.C. § 3109, and shall serve as special government employees, whose appointments must be renewed by the Secretary of Defense on an annual basis.

All subcommittees or working groups shall operate under the provisions of FACA, the Government in the Sunshine Act, governing Federal statutes and regulations, and governing DoD policies/procedures.

FOR FURTHER INFORMATION CONTACT: Jim Freeman, Advisory Committee Management Officer for the Department of Defense, 703-692-5952.

SUPPLEMENTARY INFORMATION: The Board shall meet at the call of the Designated Federal Officer, in consultation with the Board's Chairperson. The estimated number of Board meetings is four per year.

In addition, the Designated Federal Officer is required to be in attendance at all Board and subcommittee meetings; however, in the absence of the Designated Federal Officer, a properly approved Alternate Designated Federal Officer shall attend the Board or subcommittee meeting.

The Designated Federal Officer, or the Alternate Designated Federal Officer, shall call all of the Board's and subcommittee's meetings; prepare and approve all meeting agendas; adjourn any meeting when the Designated Federal Officer, or the Alternate Federal Officer, determines adjournment to be in the public interest or required by governing regulations or DoD policies/procedures; and chair meetings when directed to do so by the official to whom the Board reports.

Pursuant to 41 CFR 102-3.105(j) and 102-3.140, the public or interested organizations may submit written statements to Board of Visitors of the U.S. Air Force Academy membership about the Board's mission and functions. Written statements may be submitted at any time or in response to the stated agenda of planned meeting of Board of Visitors of the U.S. Air Force Academy.

All written statements shall be submitted to the Designated Federal Officer for the Board of Visitors of the U.S. Air Force Academy, and this individual will ensure that the written statements are provided to the membership for their consideration. Contact information for the Board of Visitors of the U.S. Air Force Academy's Designated Federal Officer can be obtained from the GSA's FACA Database— https://www.fido.gov/facadatabase/public.asp.

The Designated Federal Officer, pursuant to 41 CFR 102-3.150, will announce planned meetings of the Board of Visitors of the U.S. Air Force Academy. The Designated Federal Officer, at that time, may provide additional guidance on the submission of written statements that are in response to the stated agenda for the planned meeting in question.

Dated: October 9, 2012.
Aaron Siegel,
Alternate OSD Federal Register Liaison Officer, Department of Defense.

[FR Doc. 2012-25127 Filed 10-11-12; 8:45 am]

BILLING CODE 5001-06-P